DEPARTMENT OF COMMERCE

International Trade Administration

[C-533-844]

Certain Lined Paper Products From India: Final Results of Countervailing Duty Administrative Review; 2011

AGENCY: Enforcement and Compliance, International Trade Administration, Department of Commerce.

SUMMARY: The Department of Commerce (the Department) completed the administrative review of the countervailing duty (CVD) order on certain lined paper products from India for the January 1, 2011, through December 31, 2011, period of review (POR) ¹ in accordance with section 751(a) of the Tariff Act of 1930, as amended (the Act). The respondent in this administrative review is A.R. Printing & Packaging India Private Limited (AR Printing).² Our analysis of comments received is contained in the Decision Memorandum accompanying this Federal Register notice.³ The final net subsidy rate for AR Printing is listed below in the “Final Results of Review” section.

¹ The Department published its preliminary results for this administrative review in Certain Lined Paper Products From India: Preliminary Results of Countervailing Duty Administrative Review; Calendar Year 2011, 78 FR 62584 (October 22, 2013) (Preliminary Results), and accompanying Issues and Decision Memorandum, dated September 30, 2013 (Preliminary Decision Memorandum).

² Also known as A.R. Printing & Packaging (India) Pvt. Ltd.

³ See “Decision Memorandum for the Final Results of Countervailing Duty Review: Certain Lined Paper Products From India” from Christian Marsh, Deputy Assistant Secretary for Antidumping and Countervailing Duty Operations, to Paul Piquado, Assistant Secretary for Enforcement and Compliance (Decision Memorandum), dated concurrently and hereby adopted by this notice.

DATES: Effective Date: May 12, 2014.

FOR FURTHER INFORMATION CONTACT: John Conniff at 202-482-1009, AD/CVD Operations, Office III, Enforcement and Compliance, International Trade Administration, U.S. Department of Commerce, 14th Street and Constitution Avenue NW., Washington, DC 20230.

SUPPLEMENTARY INFORMATION:

Background

On September 28, 2006, the Department published in the Federal Register the CVD order on certain lined paper products from India.⁴ On October 22, 2013, the Department published its preliminary results of administrative review of the CVD order on certain lined paper products from India for the POR.⁵

⁴ See Notice of Amended Final Determination of Sales at Less Than Fair Value: Certain Lined Paper Products From the People's Republic of China; Notice of Antidumping Duty Orders: Certain Lined Paper Products From India, Indonesia and the People's Republic of China; and Notice of Countervailing Duty Orders: Certain Lined Paper Products from India and Indonesia, 71 FR 56949 (September 28, 2006) (Lined Paper Order).

⁵ Preliminary Results.

As explained in the memorandum from the Assistant Secretary for Enforcement and Compliance, the Department exercised its discretion to toll deadlines for the duration of the closure of the Federal Government from October 1, through October 16, 2013. Therefore, all deadlines in this segment of the proceeding have been extended by 16 days.⁶

⁶ See Memorandum for the Record from Paul Piquado, Assistant Secretary for Enforcement and Compliance, “Deadlines Affected by the Shutdown of the Federal Government” (October 18, 2013) (Tolling Memo).

AR Printing and the Petitioners ⁷ submitted case briefs on December 9, 2013, and both submitted rebuttal briefs on December 16, 2013. No interested party requested a hearing.

⁷ Petitioners are the Association of American School Paper Suppliers (Petitioners).

On February 20, 2014, the Department issued a memorandum extending the time period for issuing the final results of this administrative review from March 7, 2014, to May 6, 2014.⁸

⁸ See Memorandum to Gary Taverman, Senior Advisor for Antidumping and Countervailing Duty Operations, titled “Certain Lined Paper Products From India: Extension of Time Limit for Final Results of Countervailing Duty Administrative Review,” dated February 20, 1014.

Scope of the Order

The merchandise subject to the order is certain lined paper products. The products are currently classifiable under the Harmonized Tariff Schedule of the United States (HTSUS) item numbers: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁹

⁹ For a complete description of the Scope of the Order, see Decision Memorandum. See also Lined Paper Order, 71 FR at 56950-51.

Methodology

The Department conducted this review in accordance with section 751(a)(1)(A) of the Act. For each of the subsidy programs found countervailable, we determine that there is a subsidy, i.e., a government-provided financial contribution that gives rise to a benefit to the recipient, and that the subsidy is specific. See sections 771(5)(B) and (D) of the Act regarding financial contribution; section 771(5)(E) of the Act regarding benefit; and section 771(5A) of the Act regarding specificity. For a complete description of the methodology, see the Preliminary Decision Memorandum.

Analysis of Comments Received

All issues raised in parties' case and rebuttal briefs are addressed in the Decision Memorandum. A list of the issues which parties raised, and to which we responded in the Decision Memorandum, is attached to this notice as Appendix I. The Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Commerce building. In addition, a complete version of the Decision Memorandum can be accessed directly at http://enforcement.trade.gov/frn/index.html. The signed Decision Memorandum and the electronic versions of the Decision Memorandum are identical in content.

Final Results of Review

As a result of this review, the Department determines a net subsidy rate of 2.94 percent ad valorem for AR Printing for the period January 1, 2011, through, December 31, 2011.

Assessment Rates/Cash Deposits

In accordance with 19 CFR 351.212(b)(2), the Department intends to issue assessment instructions to U.S. Customs and Border Protection (CBP) 15 days after the date of publication of these final results of review to liquidate shipments of subject merchandise by AR Printing entered, or withdrawn form warehouse, for consumption on or after January 1, 2011, through December 31, 2011, at the ad valorem assessment rate listed above. We will also instruct CBP to collect cash deposits for the respondent at the countervailing duty cash deposit rate indicated above on all shipments of the subject merchandise entered, or withdrawn from warehouse, for consumption on or after the date of publication of these final results of review.

For all non-reviewed companies, we will instruct CBP to continue to collect cash deposits at the most recent company-specific or country-wide rate applicable to the company. Accordingly, the cash deposit rates that will be applied to companies covered by this order, but not examined in this review, are those established in the most recently completed administrative proceeding for each company. The cash deposit rates for all companies not covered by this review are not changed by the results of this review, and remain in effect until further notice.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these final results in accordance with sections 751(a)(1) and 777(i)(1) of the Act.

Dated: May 6, 2014.
Paul Piquado,
Assistant Secretary for Enforcement and Compliance.

Appendix

I. Summary

II. Period of Review

III. Scope of the Order

IV. Attribution of Subsidies

V. Allocation Period

VI. Subsidies Valuation Information—Benchmarks and Discount Rate

VII. Analysis of Programs

VIII. Analysis of Comments

Comment 1: Whether the Department Should Countervail Long-Term Policy Loans Provided by the State Bank of India

Comment 2: Whether the Department Should Revise AR Printing's Sales Denominator

Comment 3: Whether AR Printing Was Uncreditworthy in 2010

Comment 4: Whether Certain Benefits Under the Duty-Free Import of Capital Goods and Raw Materials for Export Oriented Units (EOUs) Program Were Tied to Non-Subject Merchandise

IX. Recommendation

[FR Doc. 2014-10861 Filed 5-9-14; 8:45 am]

BILLING CODE 3510-DS-P